ENVIRONMENTAL PROTECTION AGENCY

[EPA-HQ-OW-2022-0946; FRL-10625-01-OW]

Drinking Water Contaminant Candidate List 6—Nominations

AGENCY: Environmental Protection Agency (EPA).

ACTION: Notice.

SUMMARY: The U.S. Environmental Protection Agency (EPA) is requesting nominations of chemicals, microbes, or other substances that are not currently regulated in drinking water for possible inclusion on the Sixth Contaminant Candidate List (CCL 6). EPA requests that nominations include information showing the nominated contaminant is known or anticipated to occur in public water systems and indicating the nominated contaminant may have an adverse health effect on humans.

DATES: Nominations must be received on or before April 18, 2023.

ADDRESSES: You may send nomination comments, identified by Docket ID No. EPA-HQ-OW-2022-0946, by any of the following methods:

• Federal eRulemaking Portal: https://www.regulations.gov/ (our preferred method). Follow the online instructions for submitting comments.

• Mail: U.S. Environmental Protection Agency, EPA Docket Center, Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this notice. Nominations received may be posted without change to https://www.regulations.gov/, including any personal information provided. For detailed instructions on sending nominations and additional information on the process, see the “Public Participation” heading of the SUPPLEMENTARY INFORMATION section of this document.

FOR FURTHER INFORMATION CONTACT: Thomas Lombardi, Office of Ground Water and Drinking Water, Standards and Risk Management Division, Environmental Protection Agency; (202) 564-7653; lombardi.thomas@epa.gov.

SUPPLEMENTARY INFORMATION:

I. Public Participation

A. Written Comments

Submit your nomination comments, identified by Docket ID No. EPA-HQ-OW-2022-0946, at https://www.regulations.gov (our preferred method), or the other methods identified in the ADDRESSES section. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

A. Does this action impose any requirements on public water systems?

This notice does not impose any requirements on anyone; it only requests nominations for the drinking water Contaminant Candidate List (CCL) and provides information on how the public can submit nominations to the EPA.

B. What is the Contaminant Candidate List?

The CCL is a list of contaminants that are currently not subject to any proposed or promulgated national primary drinking water regulations, that are known or anticipated to occur in public water systems, and which may require regulation under the Safe Drinking Water Act (SDWA). EPA uses this list of unregulated contaminants to prioritize research and data collection efforts to help the agency determine whether to regulate a specific contaminant. The SDWA requires that EPA publish the CCL every five years (SWDA section 1412(b)(1)). EPA is also required to consult with the scientific community, including the Science Advisory Board, and provide notice and opportunity for public comment prior to publication of the final CCL.

The SDWA also requires EPA to make regulatory determinations of whether or not to regulate no fewer than five contaminants from the CCL every five years. Section 1412(b)(1)(A) of the SDWA specifies that in making a determination to regulate a contaminant, it must be determined that:

1. The contaminant may have an adverse effect on human health;

2. The contaminant is known to occur, or there is a substantial likelihood that the contaminant will occur, in public water systems with a frequency and at levels of public health concern; and

3. In the sole judgement of the EPA Administrator, regulation of the contaminant presents a meaningful opportunity for health risk reduction for persons served by public water systems.

For additional information on the CCL and Regulatory Determination, visit https://www.epa.gov/ccl.

C. What contaminants were listed on the previous Contaminant Candidate List?

The Fifth Contaminant Candidate List (CCL 5) was published on November 14, 2022 (87 FR 68060), and includes 66 chemicals, 3 chemical groups (per- and polyfluoroalkyl substances (PFAS), cyanotoxins, and disinfection byproducts (DBPs)), and 12 microbes, which were selected from a universe of chemicals used in commerce, pesticides, biological toxins, disinfection byproducts, and waterborne pathogens. The list of contaminants included on the CCL 5, can be found at https://www.epa.gov/ccl/contaminant-candidate-list-5-ccl-5 and in the Federal Register publication for the CCL 5 (November 14, 2022, 87 FR 68060, USEPA, 2022).

D. Why is EPA soliciting drinking water contaminant nominations?

EPA is conducting an evaluation of potential contaminants for inclusion on the CCL 6. EPA requests public nominations for contaminants that are not currently regulated in drinking water to ensure a broad consideration of potential contaminants. Both the National Academy of Sciences (NAS, 2001) and National Drinking Water Advisory Council (NDWAC, 2004) recommended that CCL be a data-driven, step wise approach to classifying drinking water contaminants. These advisors also recognized the importance of providing a pathway for public participation in the CCL process. The public nomination process allows EPA to consider new and emerging contaminants that might not otherwise be considered because new information may exist that EPA is unaware of and/or the information may not have been widely reported or recorded.

III. The CCL Nominations Process

The contaminant nominations process provides the public with the opportunity to identify potential drinking water contaminants and provide relevant data for EPA to consider for developing the CCL 6. In the future, EPA will also accept information following publication of the Draft CCL 6 for public comment.

A. How can stakeholders, agencies, organizations, and the public nominate drinking water contaminants for the CCL 6?

Interested parties can nominate chemicals, microbes, or other substances for consideration on the CCL 6 by sending information electronically through http://www.regulations.gov, by mail, or by hand delivery (see the ADDRESSES section of this notice). Do not submit confidential business information (CBI) to EPA through http://www.regulations.gov or by email. Submit nomination comments that contain CBI only by mail or hand delivery, and clearly mark the part of or all the information that you claim to be CBI. In addition to one complete version of the comment that includes information claimed as CBI, a non-CBI copy of the comment that does not contain the information claimed as CBI must be submitted for inclusion in the public docket. Information marked accordingly will not be disclosed except in accordance with procedures shown in 40 CFR part 2 of the Code of Federal Regulations.

When submitting a nomination, EPA prefers the nominator include a name, affiliation, phone number, mailing address, and email address; however, this information is not required, and nominations can be submitted anonymously. The nominator should also address the following questions for each nominated contaminant:

1. What is the nominated contaminant's name, CAS Registry Number (CAS RN) or DSSTox substance identifier (DTXSID), and/or common synonym (if applicable)? Note—please do not nominate a contaminant already subject to the National Primary Drinking Water Regulations (NPDWRs) (see the current list at https://www.epa.gov/ground-water-and-drinking-water/national-primary-drinking-water-regulations).

2. What are the data you believe support the conclusion that the nominated contaminant is known or anticipated to occur in public water systems? For example, provide information that shows measured occurrence of the contaminant in drinking water, measured occurrence in sources of drinking water that provide water to public drinking water systems, measured occurrence in other water types (i.e., ambient water (rivers, lakes, or streams) groundwater, wastewater, stormwater, or urban runoff) or provide information that shows the contaminant is released in the environment or is manufactured in large quantities and has the potential for contaminating sources of public drinking water. Please provide the source of the information with complete citations for published information (i.e., author(s), title, journal, and date) and/or contact information for the primary investigator. Additionally, please provide original supporting or supplemental information files relevant to the published information (i.e., data tables, data sets, or data files, etc).

3. What new health effects data are available which you believe supports the conclusion that a contaminant may have an adverse effect on the health of humans? For example, provide information that shows the contaminant may have an adverse health effect on the general population or that the contaminant is potentially harmful to subgroups that comprise a meaningful portion of the population (such as children, pregnant women, the elderly, individuals with a history of serious illness, individuals living in disadvantaged communities with known occurrence of emerging contaminants in their public water systems, or others). Please provide the source of this information with complete citations for published information (i.e., author(s), title, journal, and date) and/or contact information for the primary investigator. Additionally, please provide original supporting or supplemental information files relevant to the published information (i.e., data tables, data sets, or data files, etc).

B. How do I submit nominations in hard copy?

You may submit contaminant nominations by mail or hand delivery. To allow full consideration, please ensure that your nominations are received or postmarked by midnight on April 18, 2023. The address for submittal of nominations by mail or hand delivery is listed in the ADDRESSES section of this notice.

C. What will happen to my nominations after I submit them?

EPA will evaluate the information available for all publicly nominated drinking water contaminants to determine the appropriateness of their inclusion on the CCL 6. EPA does not intend to respond to the nomination comments directly or individually. EPA will summarize the nominations received when the Draft CCL 6 document is published in the Federal Register.

IV. References

National Drinking Water Advisory Council (NDWAC). 2004. National Drinking Water Advisory Council Report on the CCL Classification Process to the U.S. Environmental Protection Agency. Available on the internet at: https://www.epa.gov/sites/production/files/2015-11/documents/report_ccl_ndwac_07-06-04.pdf.

National Research Council (NRC). 2001. Classifying Drinking Water Contaminants for Regulatory Consideration. National Academy Press. Washington, DC. Available on the internet at https://nap.nationalacademies.org/read/10080/chapter/1.

USEPA. 2022. Drinking Water Contaminant Candidate List 5-Final. Federal Register. Vol. 87, No. 318, pp. 68060—68085. November 14, 2022. EPA Docket No. EPA-HQ-OW-2018-0594.

Radhika Fox,
Assistant Administrator.

[FR Doc. 2023-03426 Filed 2-16-23; 8:45 am]

BILLING CODE 6560-50-P